DEPARTMENT OF LABOR

Employment and Training Administration

[TA-W-61,808]

Dako Colorado Eridan Pathology Instrumentation Division Including On-Site Leased Workers of Volt and Aerotek, Ft. Collins, CO; Notice of Revised Determination on Reconsideration

On July 23, 2007, the Department of Labor (Department) issued a Negative Determination Regarding Eligibility to Apply for Worker Adjustment Assistance and Alternative Trade Adjustment Assistance applicable to the Trade Adjustment Assistance (TAA) and Alternative Trade Adjustment Assistance (ATAA) petition filed by company officials on behalf of workers and former workers of Dako Colorado, Eridan Pathology Instrumentation Division, Ft. Collins, Colorado (subject firm). The Department's Notice of negative determination was published in the Federal Register on August 9, 2007 (72 FR 44866).

The negative determination stated the petition was denied because section 222(a)(2)(A)(I.C) and (II.C) of the Trade Act of 1975, as amended, was not satisfied. The investigation revealed that the subject firm did not import during the relevant period and that, following a shift of production to Denmark, which began in 2006, the subject firm does not anticipate importing to United States customers until 2008 or 2009.

The determination also stated that the subject workers are engaged in research, development and design work on bio-tech instruments, and are separately identifiable from other workers at the subject firm. The determination further stated that subject firm production ceased in October 2006 and the workers' separations are a continuation of the shift of production abroad.

By letter dated August 8, 2007, a company official requested administrative reconsideration of the Department's negative determination. The request for reconsideration alleged that following the shift of bio-tech instrumentation production abroad, there is likely to be an increase in imports by the subject firm and its customers of articles that are like or directly competitive with those produced by the subject firm.

During the reconsideration investigation, the official explained that Dako Colorado has two divisions, that the two divisions operate independently, and that the Eridan Pathology Instrumentation Division produces bio-tech instrumentation. Therefore, the Department determines that the subject workers are engaged in the production of bio-tech instrumentation.

During the reconsideration investigation, the company official confirmed previously-submitted information and provided additional information regarding the subject firm's intention to import bio-tech instrumentation from Denmark to satisfy its domestic customers.

Based on the additional information obtained during the reconsideration investigation, the Department determines that section 222(a)(2)(A)(II.C) of the Trade Act of 1975, as amended, has been satisfied.

In accordance with section 246 the Trade Act of 1974 (26 U.S.C. 2813), as amended, the Department herein presents the results of its investigation regarding certification of eligibility to apply for ATAA. The Department has determined in this case that the group eligibility requirements of section 246 have been met.

A significant number of workers at the firm are age 50 or over. Workers possess skills that are not easily transferable. Competitive conditions within the industry are adverse.

Conclusion

After careful review of the additional information obtained during the reconsideration investigation, I determine that bio-tech instrumentation production at Dako Colorado, Eridan Pathology Instrumentation Division, Ft. Collins, Colorado shifted abroad and there is a likelihood of increased imports of articles like or directly competitive with those produced at the subject firm following the shift of production abroad.

In accordance with the provisions of the Act, I make the following certification:

All workers of Dako Colorado, Eridan Pathology Instrumentation Division, including on-site workers of Volt and Aerotek, Ft. Collins, Colorado, who became totally or partially separated from employment on or after July 9, 2006 through two years from the date of this certification, are eligible to apply for adjustment assistance under section 223 of the Trade Act of 1974, and are eligible to apply for alternative trade adjustment assistance under section 246 of the Trade Act of 1974.

Signed at Washington, DC, this 23rd day of August 2007.
Elliott S. Kushner,
Certifying Officer, Division of Trade Adjustment Assistance.

[FR Doc. E7-17177 Filed 8-29-07; 8:45 am]

BILLING CODE 4510-FN-P